DEPARTMENT OF THE INTERIOR

National Park Service

[NPS-WASO-NAGPRA-NPS0039024; PPWOCRADN0-PCU00RP14.R50000]

Notice of Inventory Completion: Louisiana State University, Museum of Natural Science, Baton Rouge, LA

AGENCY: National Park Service, Interior.

ACTION: Notice.

SUMMARY: In accordance with the Native American Graves Protection and Repatriation Act (NAGPRA), the Louisiana State University, Museum of Natural Science (LSUMNS) has completed an inventory of human remains and associated funerary objects and has determined that there is a cultural affiliation between the human remains and associated funerary objects and Indian Tribes or Native Hawaiian organizations in this notice.

DATES: Repatriation of the human remains and associated funerary objects in this notice may occur on or after December 16, 2024.

ADDRESSES: Dr. Irene Martí Gil, LSU Museum of Natural Science, 119 Foster Hall, LSU, Baton Rouge, LA 70803, telephone (225) 578-2855, email imart23@lsu.edu.

SUPPLEMENTARY INFORMATION: This notice is published as part of the National Park Service's administrative responsibilities under NAGPRA. The determinations in this notice are the sole responsibility of the LSUMNS, and additional information on the determinations in this notice, including the results of consultation, can be found in the inventory or related records. The National Park Service is not responsible for the determinations in this notice.

Abstract of Information Available

Based on the information available, human remains representing, at least, 16 individuals have been reasonably identified. No known individuals were identified. The 24 associated funerary objects are pottery vessels, effigies, and disks; stone mortars; bone awls; and glass beads.

From the Bayou Matherne site (16LF3, located at the confluence of Bayous Vacherie and Matherne in Lafourche Parish, LA), human remains representing, at a minimum, three adult individuals, were removed by James Q. Harris during two separate surface collection events in 1985. The burials could be Coles Creek-Plaquemine. The four funerary objects include one probably Mississippian clay bird head effigy, one undiagnostic bone awl, one undiagnostic stone mortar, and one Maddox Incised Effigy bowl. They have been identified as Late Plaquemine, Choctaw, and Caddo. One modern clay pipe replica, possibly Caddo, is available for repatriation as well. All five objects were acquired by William McIntire and Roger Saucier in 1952 and accessioned into the LSUMNS in 1953.

From the Sanson Place site (16RA1, also Joseph's Island, Stock Landing, located on a terrace by the Catahoula Lake in Rapides Parish, LA), 15 aboriginal vessels in various states of repair were transferred from “Mrs. Evans” to the LSUMNS in 1932 and 1935. Some `vessels' are distinctive sherds; others are partially reconstructed vessels. While the GIS database attributed the site to Plaquemine and Mississippian cultures, the current consensus for the cultural attribution of the Sanson Place site favors a Plaquemine component, albeit with strong Caddo influences/relationships.

From the Woodward Place site (16RA05, also known as Rougeau Mounds, located on a terrace knoll west of Bayou Robert or Boeuf and east of Woodworth, in Rapides Parish, LA), human remains representing, at a minimum, 13 individuals, were removed by James Ford during a surface collection in 1933. The five associated funerary objects are one aboriginal pot, two copper-covered clay disks, one Maddox Engraved var. Baptiste jar, and one lot of white European glass trade beads. The burials could be Coles Creek, Plaquemine, Caddo Unknown, Historic Indian Contact A.D. 1200-1700.

Cultural Affiliation

Based on the information available and the results of consultation, cultural affiliation is reasonably identified by the geographical location or acquisition history of the human remains and associated funerary objects described in this notice.

Determinations

The Louisiana State University, Museum of Natural Science (LSUMNS) has determined that:

• The human remains described in this notice represent the physical remains of 16 individuals of Native American ancestry.

• The 24 objects described in this notice are reasonably believed to have been placed intentionally with or near individual human remains at the time of death or later as part of the death rite or ceremony.

• There is a connection between the human remains and the associated funerary objects described in this notice and the Caddo Nation of Oklahoma; Chitimacha Tribe of Louisiana; Jena Band of Choctaw Indians; Mississippi Band of Choctaw Indians; and The Choctaw Nation of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after December 16, 2024. If competing requests for repatriation are received, the Louisiana State University, Museum of Natural Science (LSUMNS) must determine the most appropriate requestor prior to repatriation. Requests for joint repatriation of the human remains and associated funerary objects are considered a single request and not competing requests. The Louisiana State University, Museum of Natural Science (LSUMNS) is responsible for sending a copy of this notice to the Indian Tribes and Native Hawaiian organizations identified in this notice.

Authority: Native American Graves Protection and Repatriation Act, 25 U.S.C. 3003, and the implementing regulations, 43 CFR 10.10.

Dated: November 5, 2024
Melanie O'Brien,
Manager, National NAGPRA Program.

[FR Doc. 2024-26448 Filed 11-13-24; 8:45 am]

BILLING CODE 4312-52-P